DEPARTMENT OF DEFENSE

Office of the Secretary

Committee Termination and Committee Establishment—Department of Defense Federal Advisory Committees

AGENCY: Department of Defense (DoD).

ACTION: Committee termination and establishment.

SUMMARY: Pursuant to the Federal Advisory Committee Act of 1972, (5 U.S.C., Appendix), the Sunshine in the Government Act of 1976 (5 U.S.C. 552b), and 41 CFR 102-3.60 and 102-3.65 the Department of Defense announces: the establishment of the Board of Advisors to the Presidents of the Naval Postgraduate School and the Naval War College; and that effective April 30, 2010, it will terminate the Board of Advisors to the President Naval Postgraduate School.

FOR FURTHER INFORMATION CONTACT: Jim Freeman, Deputy Advisory Committee Management Officer for the Department of Defense, 703-601-6128.

SUPPLEMENTARY INFORMATION: The mission of the Board of Advisors to the President Naval Postgraduate School will be included in the mission for the new Board of Advisors to the Presidents of the Naval Postgraduate School and the Naval War College (hereafter referred to as “the Board of Advisors”).

The Board of Advisors shall advise and assist the Department of the Navy, the Presidents of the Naval Postgraduate School and the Naval War College in educational and support areas by providing independent advice and recommendations on items such as, but not limited to, organizational management, curricula, methods of instruction, facilities, and other matters of interest. Pursuant to DoD policy, the Secretary of the Navy may act upon the Board of Advisor's advice.

The Board of Advisors shall be comprised of not more than 10 members who are eminent authorities in the fields of academia, business, national defense, the defense industry, and research and analysis. Not less than fifty percent of the members shall be eminent authorities in the field of academia. Board of Advisors members shall be appointed by the Secretary of Defense, and their appointments will be renewed on an annual basis. Those members, who are not full-time or permanent part-time federal officers or employees, shall be appointed as experts and consultants under the authority of 5 U.S.C. 3109, and serve as special government employees.

Members may be appointed for terms ranging from one to four years. Such appointments will normally be staggered among the Board membership to ensure an orderly turnover in the Board's overall composition on a periodic basis. With the exception of travel and per diem for official travel, they shall normally serve without compensation, unless otherwise authorized by the appointing authority.

The Chief of Naval Personnel shall serve as an ex-officio Board member. As an ex-officio member this individual shall have no voting rights whatsoever on the Board or any of its subcommittees. In addition, he or she shall not count toward the Board's total membership.

With DoD approval, the Board of Advisors is authorized to establish subcommittees, as necessary and consistent with its mission. These subcommittees or working groups shall operate under the provisions of the Federal Advisory Committee Act of 1972, The Government in the Sunshine Act of 1976 (5 U.S.C. 552b, as amended), and other appropriate Federal statutes and regulations.

Such subcommittees or working groups shall not work independently of the chartered Board of Advisors, and shall report all their recommendations and advice to the Board of Advisors for full deliberation and discussion. Subcommittees or working groups have no authority to make decisions on behalf of the chartered Board of Advisors nor can they report directly to the Department of Defense or any Federal officers or employees who are not Board of Advisors members.

The Board of Advisors shall establish and maintain two permanent subcommittees:

a. The Naval Postgraduate School subcommittee shall be comprised of no more than 19 members and shall focus primarily on the Naval Postgraduate School. The subcommittee shall meet a minimum of twice annually.

b. The Naval War College subcommittee shall be comprised of no more than 10 members and shall focus primarily on the Naval War College. The subcommittee shall meet a minimum of twice annually.

Subcommittee members, who are not Board of Advisors members, shall be appointed in the same manner as Board of Advisors members.

Pursuant to 41 CFR 102-3.105(j) and 102-3.140, the public or interested organizations are reminded that they may submit written statements to the committee membership about the committee's mission and functions. Written statements may be submitted at any time or in response to the stated agenda of planned meeting of the Board of Advisors to the Presidents of the Naval Postgraduate School and the Naval War College.

All written statements shall be submitted to the Designated Federal Officer for the Board of Advisors to the Presidents of the Naval Postgraduate School and the Naval War College, and this individual will ensure that the written statements are provided to the membership for their consideration. Contact information for the Board of Advisors to the Presidents of the Naval Postgraduate School and the Naval War College's Designated Federal Officer, may be obtained from the GSA's FACA Database— https://www.fido.gov/facadatabase/public.asp.

The Designated Federal Officer, pursuant to 41 CFR 102-3.150, will announce planned meetings of the Board of Advisors to the Presidents of the Naval Postgraduate School and the Naval War College. The Designated Federal Officer, at that time, may provide additional guidance on the submission of written statements that are in response to the stated agenda for the planned meeting in question.

Dated: April 7, 2010.
Mitchell S. Bryman,
Alternate OSD Federal Register Liaison Officer, Department of Defense.

[FR Doc. 2010-8268 Filed 4-9-10; 8:45 am]

BILLING CODE 5001-06-P